DEPARTMENT OF COMMERCE

National Oceanic and Atmospheric Administration

Proposed Information Collection; Comment Request; Survey of Hawaii Resident Resource Users' Knowledge, Attitudes and Perceptions of Coral Reefs in Two Hawaii Priority Sites

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 23, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Risa Oram, (808) 944-2124 or Risa.Oram@noaa.gov

SUPPLEMENTARY INFORMATION:

I. Abstract

The United States (U.S.) Coral Reef Task Force (USCRTF) was established in 1998 by Executive Order 13089 to lead and coordinate U.S. efforts to address the threats facing coral reefs. The Hawaii Coral Reef Working Group (CRWG), composed of key state and federal partners involved in coral reef management, was established through a local charter to provide guidance to the State of Hawaii's coral program and to prioritize sites to implement specific ridge-to-reef management activities. Priority sites are areas where coral reef ecosystems of high biological value are threatened but have strong potential for improvement with management intervention. The current two priority sites in Hawaii are South Kohala on the Big Island (Pelekane Bay-Puako-Anaeho`omalu Bay, Hawai`i) and West Maui (Ka`anapali-Kahekili, Maui). At both sites, multiple partners are collaborating to produce conservation action plans to conserve resources and human uses.

The Human Dimensions Research Program at NOAA Fisheries Pacific Islands Fisheries Science Center is initiating a survey to support development of these conservation action plans, including management actions in watersheds and in the coral reef ecosystems in the two priority sites. The purpose of this survey is to identify resident users' knowledge, attitudes, and perceptions regarding coral reef and watershed conditions and alternative management strategies to protect resources at the two priority sites.

Information from this survey is needed to inform the conservation action planning process initiated by the State of Hawaii Department of Land and Natural Resources (DLNR), Division of Aquatic Resources (HDAR) and The Nature Conservancy (TNC) at the South Kohala site and to inform conservation and watershed planning being implemented by HDAR, The U.S. Army Corps of Engineers, and other partners at the West Maui site. Managers have indicated a more immediate need for information at the South Kohala site; therefore, we will conduct the survey there first and the survey at West Maui afterwards. The information gained from the survey will provide priority site managers with essential information about the population of resident users who can both threaten reef health and play a key role in stewardship of reef resources. Conservation planners will gain information about the threats and status of coral reefs from the resident users who interact most with those systems, and help managers identify topics for public outreach and education. A representative study of resident users' knowledge, attitudes, and perceptions will supplement broader public input into the conservation planning processes at the sites.

II. Method of Collection

Data will be collected through an intercept survey of adult residents visiting the coastal area included within the boundary of the two priority sites. Sampling will be stratified by season (wet/dry); day of the week (weekend-holiday/weekday) and time of day (morning/afternoon/evening) to account for the expected variation in use levels by residents. The target sample size is 200 respondents at each site. The only wording that would change on the surveys would be interviewer introductions to the survey and specifics about the priority site boundaries.

III. Data

OMB Control Number: None.

Form Number: None.

Type of Review: Regular submission.

Affected Public: Individuals or households.

Estimated Number of Respondents: 400.

Estimated Time per Response: 20 minutes.

Estimated Total Annual Burden Hours: 133.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 15, 2012.
Gwellnar Banks,
Management Analyst, Office of the Chief Information Officer.

[FR Doc. 2012-3992 Filed 2-21-12; 8:45 am]

BILLING CODE 3510-22-P